DEPARTMENT OF COMMERCE

[I.D. 110300A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Antarctic Marine Living Resources Conservation and Management Measures.

Form Number(s): None.

OMB Approval Number: 0648-0194.

Type of Request: Regular submission.

Average Hours Per Response: 28 hours for a new or exploratory fishery application, 30 minutes for a harvesting permit application, 1 minute for a radio report, 12 minutes for a transshipment permit application, 30 minutes for a dealer permit application, 15 minutes for an import ticket, 30 minutes for a re-export permit application, 3 minutes for a catch document from an importer, 10 minutes for a catch document from a re-exporter, 15 minutes for a catch document from a harvester.Burden Hours: 149.

Number of Respondents: 62.

Needs and Uses: Pursuant to the Antarctic Marine Living Resources Convention Act of 1984, NOAA supports the Commission for the Conservation of Antarctic Marine Living Resources (CCAMLR). CCAMLR meets annually to adopt conservation and management measures. These include harvesting restrictions, import controls, and data reporting requirements. As a member of CCAMLR, the United States is obligated to put these measures into effect.

Affected Public: Business and other for-profit organizations, individuals.

Frequency: On occasion.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: November 1, 2000.
Gwellnar Banks,
Management Analyst, Office of the Chief Information Officer.

[FR Doc. 00-28681 Filed 11-7-00; 8:45am]

BILLING CODE 3510-22-S